DEPARTMENT OF TRANSPORTATION

Federal Railroad Administration

[Docket No. FRA-2022-0006]

Request for Information for the Corridor Identification and Development Program

AGENCY: Federal Railroad Administration (FRA), Department of Transportation (DOT).

ACTION: Request for information (RFI).

SUMMARY: On November 15, 2021, President Biden signed into law the Infrastructure Investment and Jobs Act, also known as the Bipartisan Infrastructure Law (BIL). The BIL provides historic appropriations for railroad transportation grant programs administered by the Federal Railroad Administration (FRA), and also authorizes new programs to enhance rail safety and to repair, restore, improve, and expand the nation's rail network. Among those new programs is the Corridor Identification and Development Program (the Program), which creates a new framework to facilitate the development of new, enhanced, and restored intercity passenger rail corridors throughout the country. The BIL requires the Secretary of Transportation to establish the Program within 180 days of enactment (i.e., May 14, 2022). This responsibility is delegated to FRA. In this request for information (RFI), FRA is seeking comments on the Program and how it can best serve stakeholders and the public in facilitating the development of intercity passenger rail corridors.

DATES: Written comments on this RFI must be received on or before March 9, 2022. FRA will consider comments filed after this date to the extent practicable.

ADDRESSES: Comments should refer to docket number FRA-2022-0006 and be submitted by at http://www.regulations.gov. Search by using the docket number and follow the instructions for submitting comments.

Instructions: All submissions must include the agency name and docket number for this RFI.

Note: All comments received, including any personal information, will be posted without change to the docket and will be accessible to the public at http://www.regulations.gov. You should not include information in your comment that you do not want to be made public. Input submitted online via www.regulations.gov is not immediately posted to the site. It may take several business days before your submission is posted.

FOR FURTHER INFORMATION CONTACT: For further information related to this RFI, please contact Peter Schwartz, Chief, Project Engineering and Transportation Planning Division, by email: PaxRailDev@dot.gov or by telephone: 202-493-6360.

SUPPLEMENTARY INFORMATION:

Background

The Program is intended to facilitate the development of intercity passenger rail corridors. Public Law 117-58 sec. 22308 (Nov. 15, 2021); 49 U.S.C. 25101(a) (while this citation may not yet be available in some online versions of the U.S. Code, the text may be found at https://www.congress.gov/117/plaws/publ58/PLAW-117publ58.pdf at 135 STAT. 730). The Program includes: (1) A process for eligible entities to submit proposals for the development of intercity passenger rail corridors; (2) a process for FRA to review and select such proposals; (3) criteria for determining the level of readiness for Federal financial assistance of intercity passenger rail corridors; (4) a process for preparing service development plans (SDPs); (5) the creation of a pipeline of intercity passenger rail corridor projects; (6) planning guidance; and (7) such other features as FRA considers relevant. 49 U.S.C. 25101(a)(1)-(7).

FRA seeks information from all those interested in the Program on how the Program should be implemented to best facilitate the development of intercity passenger rail corridors. Where available and appropriate, FRA requests that respondents provide relevant technical information, statutory or regulatory citations, data, or other evidence to support their comments. FRA also requests that responses to this RFI be organized by the topics outlined below, including references, as applicable, to the numbered questions. Respondents are encouraged to address in their responses any topics they believe to be relevant to the Program and are not limited to addressing only those topics and questions outlined below.

Roles and Responsibilities Within the Program

While FRA has a central role in the administration of the Program, the BIL also calls for important roles for other parties—including States, Amtrak, host railroads, labor organizations, and other stakeholders—who typically have responsibilities in intercity passenger rail development efforts. For example, Amtrak, States, groups of States, entities implementing interstate compacts, regional passenger rail authorities, regional planning organizations, political subdivisions of a State, federally recognized Tribes, and other public entities, as determined by FRA, are all eligible to submit proposals for the development of intercity passenger rail corridors under the Program. 49 U.S.C. 25101(b). In addition, in partnering on the preparation of an SDP, FRA must partner with the entity that submitted the proposal, relevant States, and Amtrak, as appropriate, and also must consult with Amtrak, appropriate State and regional transportation authorities and local officials, employee labor organizations, host railroads, and other stakeholders, as determined by the Secretary. 49 U.S.C. 25101(d) and (e).

1. What is the appropriate role for Amtrak, in the submission and development of proposals submitted by other entities, for corridors that currently are or would be intended to be operated by Amtrak?

2. What are the appropriate roles for FRA and other parties in the preparation of SDPs under 49 U.S.C. 25101(d), or in other Program activities?

Service Development Plans

As noted, for each intercity passenger rail corridor selected for development under the Program, FRA must partner with the entity that submitted the proposal, relevant States, and Amtrak, as appropriate, to prepare an SDP (or to update an existing SDP). 49 U.S.C. 25101(d). As further detailed in the statute, the SDP must include: (1) A detailed description of the proposed intercity passenger rail service; (2) a corridor project inventory, identifying the capital projects necessary to achieve the proposed intercity passenger rail service and the order in which Federal funding will be sought; (3) a schedule, and any associated phasing, of projects and related service initiation or changes; (4) project sponsors and other entities expected to participate in carrying out the plan; (5) a description of how the corridor would comply with Federal rail safety and security laws, orders, and regulations; (6) the locations of existing and proposed stations; (7) the needs for rolling stock and other equipment; (8) a financial plan; (9) a description of how the corridor would contribute to the development of a multi-State regional network of intercity passenger rail; (10) an intermodal plan; (11) a description of the anticipated environmental benefits; and (12) a description of the corridor's impacts on highway and aviation congestion, energy consumption, land use, and economic development. 49 U.S.C. 25101(d)(1)-(12).

3. Where permissible, should SDPs under the Program have the option to be prepared as longer-range planning documents, so that the implementation of the new or improved service (through the implementation of the projects included in the “corridor project inventory,” and advancement of such projects into the project pipeline) may be sequenced or phased over time?

4. Where permissible, should SDPs under the Program develop and narrow alternatives for implementing a new or improved service through the use of a planning process undertaken in advance of environmental review under the National Environmental Policy Act (NEPA) (e.g., in a manner similar to that applicable to highway and transit projects under appendix A to 23 CFR part 450—Linking the Transportation Planning and NEPA Processes)?

5. How should public involvement and environmental considerations be incorporated into the preparation of SDPs under the Program, and how might that vary depending on whether or not SDPs develop and narrow alternatives (as described in Question #4)?

6. 49 U.S.C. 25101(e) requires that FRA consult with certain stakeholders in the preparation of SDPs under the Program. What approaches could FRA take to ensure the consultation process is effective and meaningful?

Project Pipeline

As noted above, under the Program, FRA must annually submit a project pipeline to Congress that, as further detailed in the statute: (1) Identifies intercity passenger rail corridors selected for development; (2) identifies capital projects for Federal investment; (3) specifies the order in which FRA would provide financial assistance, including a method and plan for apportioning funds; (4) takes into consideration the appropriate sequence and phasing of projects; (5) takes into consideration the existing commitments and anticipated funding levels; (6) is prioritized based on the level of readiness of the corridor; and (7) reflects consultation with Amtrak. 49 U.S.C. 25101(g)(1)-(7). The statute does not specify what level of development should be achieved prior to identifying a capital project for Federal investment in the pipeline.

7. Should capital projects identified in the project pipeline be required to be ready for immediate implementation (i.e., final design and construction), and be supported by a completed environmental determination under NEPA, completed preliminary engineering, and (as applicable) agreements with the relevant host railroad(s)?

8. If a capital project must be ready for immediate implementation in order to be included in the project pipeline (see Question #7), should FRA establish a “pre-Pipeline” of projects that have been identified in the “corridor project inventories” included in the SDPs prepared under 49 U.S.C. 25101(d), and that are in the process of being readied for implementation (e.g., in the process of environmental review under NEPA, undergoing completion of preliminary engineering, etc.), but which are not ready for implementation?

9. Through what means, and in consideration of what factors (beyond those enumerated in 49 U.S.C. 25101(g)(4)-(7)), should FRA establish the order (or prioritization) of the list of capital projects eligible for funding identified under the project pipeline, as called for in 49 U.S.C. 25101(g)(3)?

Funding of Program Activities

The BIL makes funding available to carry out planning and development activities related to the Program. Public Law 117-58 22307; 49 U.S.C. 24911(k). The statute includes three examples of activities that may be undertaken using this funding, including: (1) Providing funding to public entities for the development of SDPs selected under the Program; (2) facilitating and providing guidance for intercity passenger rail systems planning; and (3) providing funding for the development and refinement of intercity passenger rail systems planning analytical tools and models. 49 U.S.C. 24911(k)(1)-(3). The statute does not limit the use of such funding to these three examples.

10. What other Program activities should be undertaken with the support of funding provided under 49 U.S.C. 24911(k)?

Readiness of Proposals for Selection into the Program

The statute specifies criteria for the selection of corridors for the Program. However, these criteria do not fully address the readiness of a proposed corridor for development under the Program.

11. Should FRA consider readiness factors not otherwise described in the statute when evaluating proposals submitted for the Program, and if so, what factors would be relevant in assessing readiness?

12. In determining the readiness of a proposal, should FRA consider the degree of commitment to the eventual implementation of the proposal demonstrated by: (1) The entity submitting the proposal, (2) the proposed service sponsor(s), and/or (3) the proposed capital project sponsor(s)?

Criteria for the Selection of Proposals

When selecting intercity passenger rail corridors for the Program, FRA must consider fourteen specific criteria. 49 U.S.C. 25101(c).

13. Of the fourteen selection criteria enumerated in 49 U.S.C. 25101(c), are certain criteria of greater importance to the successful development of an intercity passenger rail corridor?

14. What other considerations may be appropriate in evaluating proposals for corridors to be developed under the Program?

Selectivity of the Program

FRA must solicit and select intercity passenger rail corridor proposals for development under the Program, and must partner with the entity that submitted the proposal to prepare an SDP for a selected proposal. While FRA must apply certain corridor selection criteria, the statute does not address the selectivity of the Program.

15. In general, how selective should the Program be, particularly during the period directly following its establishment? Should all proposals that meet a minimum threshold be selected for development under the Program, or should only a limited number of top proposals be selected, and if so, why?

16. What considerations are relevant for determining the selectivity of the Program?

Issued in Washington, DC
Paul Nissenbaum,
Associate Administrator, Office of Railroad Policy and Development.

[FR Doc. 2022-02450 Filed 2-4-22; 8:45 am]

BILLING CODE 4910-06-P